DEPARTMENT OF ENERGY

Federal Energy Regulatory Commission

Combined Notice of Filings

February 16, 2017.

Take notice that the Commission has received the following Natural Gas Pipeline Rate and Refund Report filings:

Filings Instituting Proceedings

Docket Number: PR17-26-000.

Applicants: Enable Oklahoma Intrastate Transmission, LLC.

Description: Tariff filing per 284.123(b), (e) + (g): Enable Revised Fuel Percentages April 1, 2017 through March 31, 2018 to be effective 4/1/2017; Filing Type: 1300.

Filed Date: 2/14/17.

Accession Number: 201702145136.

Comments Due: 5 p.m. ET 3/7/17.

284.123(g) Protests Due: 5 p.m. ET 4/17/17.

Docket Number: PR14-55-000.

Applicants: Arkansas Oklahoma Gas Corporation.

Description: Annual Report for 2017 to demonstrate circumstances supporting waiver have not changed.

Filed Date: 2/7/17.

Accession Number: 201702075220.

Comments/Protests Due: 5 p.m. ET2/28/17.

Docket Numbers: RP17-403-000.

Applicants: Southern Natural Gas Company, L.L.C.

Description: § 4(d) Rate Filing: Fuel Retention Rates—Spring 2017 to be effective 4/1/2017.

Filed Date: 2/16/17.

Accession Number: 20170216-5001.

Comments Due: 5 p.m. ET 2/28/17.

Docket Numbers: RP17-404-000.

Applicants: PGPipeline LLC.

Description: § 4(d) Rate Filing: Annual Adjustment of Fuel and Gas Loss Retention Percentage to be effective4/1/2017.

Filed Date: 2/16/17.

Accession Number: 20170216-5064.

Comments Due: 5 p.m. ET 2/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2017-03454 Filed 2-22-17; 8:45 am]

BILLING CODE 6717-01-P